FEDERAL ELECTION COMMISSION

Sunshine Act Notice

AGENCY: Federal Election Commission.

DATE AND TIME: Thursday, February 17, 2011 at 10 a.m.

PLACE: 999 E Street, NW., Washington, DC (Ninth Floor).

STATUS: This meeting will be open to the public.

ITEMS TO BE DISCUSSED: Correction and Approval of the Minutes for the Meeting of February 3, 2011

Draft AO 2011-01: Robin Carnahan for Senate by Mark Elias, Jonathan S. Berkon, and Ezra W. Reese

Draft AO 2011-02: Senator Scott Brown and Brown for U.S. Senate Committee by Daniel Winslow

Kucinich for President, Inc.—Statement of Reasons—Repayment Determination upon Administrative Review

Audit Division Recommendation Memorandum on the Kansas Republican Party

Management and Administrative Matters.

Individuals who plan to attend and require special assistance, such as sign language interpretation or other reasonable accommodations, should contact Shawn Woodhead Werth, Commission Secretary and Clerk, at (202) 694-1040, at least 72 hours prior to the hearing date.

PERSON TO CONTACT FOR INFORMATION: Judith Ingram, Press Officer. Telephone: (202) 694-1220.

Shawn Woodhead Werth,
Secretary and Clerk of the Commission.

[FR Doc. 2011-3374 Filed 2-11-11; 4:15 pm]

BILLING CODE 6715-01-P